DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revision and three-year extension to the Coal Program package. The forms include the EIA-1, “Weekly Coal Monitoring Report—General Industries and Blast Furnaces” (Standby); EIA-3, “Quarterly Coal Consumption and Quality Report—Manufacturing Plants;” EIA-4, “Weekly Coal Monitoring Report—Coke Plants” (Standby); EIA-5,“Quarterly Coal Consumption and Quality Report—Coke Plants;” EIA-6Q (Schedule Q), “Quarterly Coal Report” (Standby); EIA-7A, “Coal Production Report;” and EIA-20, “Weekly Telephone Survey of Coal Burning Utilities” (Standby). The Standby forms are designed to be utilized under certain emergency conditions.

DATES: Comments must be filed by September 24, 2007. If you anticipate difficulty in submitting comments within that period, contact the person listed below as soon as possible.

ADDRESSES: Send comments to William Watson. To ensure receipt of the comments by the due date, submission by Fax (202-287-1944) or e-mail (coal@eia.doe.gov) is recommended. The mailing address is Coal, Nuclear, and Renewables Division, EI-52, Forrestal Building, U.S. Department of Energy, 1000 Independence Ave., SW., Washington, DC 20585.

FOR FURTHER INFORMATION CONTACT: Requests for additional information or copies of any forms and instructions should be directed to William Watson at the address listed above or william.watson@eia.doe.gov or (202) 586-1707, or to Frederick Freme, frederick.freme@eia.doe.gov, (202) 586-1251.

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data surveys that maximize the utility of the information collected, and to assess the impact of collection requirements on the public. Also, the EIA will later seek approval by the Office of Management and Budget (OMB) under Section 3507(a) of the Paperwork Reduction Act of 1995.

Specific to the U.S. coal sector, EIA conducts surveys to collect information on coal reserves, coal production, distribution, receipts, consumption, quality, stocks, and prices. This information is used to support public policy analyses of the coal industry and is published in various EIA publications, including the Annual Coal Report, the Annual Energy Review, the Monthly Energy Review, and the Quarterly Coal Report. Respondents to the coal surveys include coal producers, coal distributors, and coal consumers.

Please refer to the proposed forms and instructions for more information about the purpose, who must report, when to report, where to submit, the elements to be reported, detailed instructions, provisions for disclosure, and uses (including possible nonstatistical uses) of the information. For instructions on obtaining materials, see the FOR FURTHER INFORMATION CONTACT section.

II. Current Actions

EIA proposes to eliminate the EIA-6A survey, which currently collects data on coal distributed by coal producers and distributors/brokers and data on stocks held by distributors/brokers. However, EIA intends to continue providing coal distribution and distributor/broker stock data to the public. Therefore, EIA proposes substituting processes to obtain some of the data currently collected on the EIA-6A survey with other existing EIA surveys and the remaining data from a new proposed EIA survey, form EIA-8A “Coal Stocks Report—Distributors/Brokers.”

The EIA-6A data survey—operating under an existing authorization—collects information on coal distributed (by producers and distributors/brokers) to the electric power sector. On the EIA-423, FERC-423 and the EIA-860 survey forms, EIA currently collects data from electric power plants on the amount of coal received, including additional coal data such as State of origin, transport mode and destination State. EIA has compared the data currently collected from producers and distributors/brokers on the EIA-6A with the similar data collected from electric power consumers on the electric surveys and found close agreement. Accordingly, EIA has concluded that a practical and efficient alternative to surveying producers and distributors/brokers is to develop information technology systems that capture and report the relevant coal data being collected from electric consumers. EIA has concluded that this alternative will maintain data quality and significantly reduce the burden on current respondents without causing any change to the burden of the applicable electric power sector consumers.

EIA is concurrently proposing to combine data elements from the EIA-423, FERC-423, and EIA-860 forms into a new EIA-923 form. If that proposal is approved, EIA would then take its electric power sector data from the replacement EIA-923 survey for the alternative procedure described above.

As a replacement for coal distributor data now collected on the EIA-6A form from coke plants and other industrial plants, EIA proposes to obtain comparable data from the EIA-5 survey of coke plants and the EIA-3 survey of manufacturing plants.

Similarly, coal distributor data for the residential and commercial sector currently collected on the EIA-6A survey would be replaced by data collected on the EIA-3 survey by adding commercial and institutional coal users as respondents to the EIA-3 survey. EIA proposes to rename the residential and commercial sector as “commercial and institutional” to more accurately reflect its makeup.

By shifting to these alternate data sources, EIA will be able to post quarterly domestic coal distribution tables rather than the annual tables that it posts now. The quarterly data tables will be available approximately 90 days after the close of the latest quarter, which will substantially improve the timeliness of the coal distribution data.

EIA proposes to collect annual data on distributor/broker coal stocks (now collected on the EIA-6A survey) on a new annual survey, which will be named form EIA-8A and which will be sent annually to distributors/brokers. The new EIA-8A form will request data on coal stock levels at the beginning of the year, at the end of the year and on inter-year adjustments. Using data reflecting producer coal stocks from the EIA-7A and the new EIA-8A, EIA will be able to continue to provide annual data to the public on the quantity of coal stocks held by producers and distributors/brokers.

EIA also proposes to change a current data schedule, S1 on the EIA-3 form, used to collect data from coal synfuel plants. The first modification is to add the transport mode (such as rail, barge, and so on) used to move the coal or derivative coal-based product from the processing plant to the final consumer. A second modification is to add data elements to measure the volume and quality of the coal going into the processing technology and the volume and quality of the product and byproducts produced by the processing technology.

With the modified S1 schedule, EIA will be able to report to the public the amount of coal going by transport mode from the coal State of origin to the State where the processing plant is located, and the amount of processed product going from the processing plant by transport mode to the final consumer and the final consumer's destination State. Also, EIA would report to the public the total coal received, consumed, and transformed, coal quality, and volumes and quality for products and byproducts aggregated to the State level for all coal processing operations in a State.

EIA proposes to add questions to determine the type of surface mining technology for each of the surface mines that report on the EIA-7A. EIA will use the additional data to report to the public the amount of coal surface-mined by each type of technology. This will make EIA's data on surface-mined coal consistent with its underground-mined data.

On the EIA-7A form, EIA proposes to include purchaser's contact name, telephone number and email address when coal is reported as sold to wholesale or retail coal dealers or brokers. EIA will use this information to update the survey frame and respondent contact information for its new EIA-8A survey (see above).

On the EIA-5 form, EIA proposes to collect total revenue for the commercial sales of coke and breeze. EIA will use this new data to calculate and report the average value of coke and breeze ($ per short ton) to the public in EIA's Quarterly Coal Report.

EIA proposes new disclosure provisions for the EIA-3, EIA-5, EIA-7A surveys and the new EIA-8A survey to make all data, except certain economic data, available to the public. After EIA completes its quality assurance process, the data, except for specific economic data, would be released for public use through EIA's normal web publication system. EIA proposes to release additional specific economic data nine months after the aggregated data are published in EIA reports (i.e., 2008 1st quarter economic data published in June 2008) will be made available to the public in March 2009; 2008 annual economic data (published in September 2009) will be made available to the public in June 2010. The data with a delayed release include: (1) Value of coal receipts reported on the EIA-3 and EIA-5 forms, (2) total revenue from commercial sales of coke and breeze reported on the EIA-5 form, and (3) recoverable reserves and total revenue from open and captive market sales reported on the EIA-7A form.

EIA proposes the addition of a second level of respondent contact information to the EIA-7A form. Currently, only a single set of contact information is collected on the EIA-7A. EIA would use this information to contact firms when the first level respondent is no longer available. This information would help EIA provide data to the public in a timely manner.

III. Request for Comments

Prospective respondents and other interested parties should comment on the actions discussed in Item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for each of the coal surveys is shown below as an average hour(s) per response. The estimated burden includes the total time necessary to provide the requested information. In your opinion, how accurate is this estimate?

—Form EIA-1, “Weekly Coal Monitoring Report—General Industries and Blast Furnaces” (Standby); 1 hour per response (no change from existing estimate of 1 hour)

—Form EIA-3, “Quarterly Coal Consumption and Quality Report—Manufacturing Plants;”

1 hour per response, manufacturing plants (no change from existing estimate of 1 hour)

1.5 hours per response, coal processing plants (new schedule for respondent, existing estimate without new schedule is 1 hour)

—Form EIA-4, “Weekly Coal Monitoring Report—Coke Plants” (Standby); 1 hour per response (no change from existing estimate of 1 hour)

—Form EIA-5, “Quarterly Coal Consumption and Quality Report—Coke Plants;” 1.5 hours per response (no change from existing estimate of 1.5 hours)

—Form EIA-6Q, “Quarterly Coal Report” (Standby); 1 hour per response (no change from existing estimate of 1 hour)

—Form EIA-7A, “Coal Production Report;”

1 hour per response (no change from existing estimate of 1 hour)

—Form EIA-8A, “Coal Stocks Report—Distributors/Brokers;” 0.5 hours per response (new survey)

—Form EIA-20, “Weekly Telephone Survey of Coal Burning Utilities” (Standby); 1 hour per response (no change from existing estimate of 1 hour)

Forms EIA-1, 4, 6Q, and 20 are Standby surveys. The above estimates reflect the anticipated burden per response in the event these surveys are implemented.

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, July 18, 2007.
Jay H. Casselberry,
Agency Clearance Officer, Energy Information Administration.

[FR Doc. E7-14252 Filed 7-23-07; 8:45 am]

BILLING CODE 6450-01-P